DEPARTMENT OF HEALTH AND HUMAN SERVICES

Centers for Disease Control and Prevention

[60Day-26-1282; Docket No. CDC-2026-0298]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Improving Performance Measurement and Monitoring by CDC Programs: The Performance Measures Project. CDC is requesting approval for a Revision to the previously approved project to work with selected CDC programs to provide tools, templates and technical assistance to develop and implement performance measures for CDC funded public health initiatives.

DATES: CDC must receive written comments on or before April 27, 2026.

ADDRESSES: You may submit comments, identified by Docket No. CDC-2026-0298 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Improving Performance Measurement and Monitoring by CDC Programs: The Performance Measures Project (OMB Control No. 0920-1282, Exp. 06/30/2029)—Revision—Office of Policy Performance and Evaluation (OPPE), Centers for Disease Control and Prevention (CDC).

Background and Brief Description

Each year, approximately 75% of the CDC's congressionally appropriated funding goes to extramural organizations, including state and local partners, via contracts, grants, and, most commonly, cooperative agreements. The availability of funding for grants and cooperative agreements is announced through a Notice of Funding Opportunity (NOFO). CDC awards up to 100 new, non-research NOFOs each year (each funded for one to five years). These awards may have only a few funded recipients or more than 50 (such as when a CDC program provides funding to all states and territories).

CDC programs develop logic models for each NOFO, describing the key programmatic strategies and activities and the short, intermediate, and long-term outcomes funded recipients are expected to achieve during their period of performance. Programs develop performance measures customized to a NOFO-specific public health initiative to assess actions prescribed by the logic model with the immediate goal of monitoring progress and the long-term goal of improving performance.

Monitoring and reporting of program performance is required of any non-federal entity receiving federal funds under 45 CFR 75.342 which states; “the non-Federal entity must monitor its activities under Federal awards to assure compliance with applicable Federal requirements and performance expectations are being achieved.” Under this requested approval, CDC programs customized a sample “Recipient Codebook Technical Specification” and a sample “Recipient Data Reporting Guide” to measure, at the local level, the desired public health outcomes of a particular public health initiative, in compliance with the Paperwork Reduction Act (PRA). Individual collection requests submitted under this Generic approval will include the tailored forms and a supplementary template. CDC programs who may be developing new, non-research NOFOs or are currently collecting data under an approved NOFO are eligible to participate.

Currently, CDC programs have received OMB approval to collect performance measure data using the 0920-1282 Generic Information Collection. This Revision is requested to allow participating CDC programs to continue performance measure data collection through the remaining approval period and for additional programs to use the Generic mechanism for future performance measure data collection. This Revision reflects expanded technical assistance that the Performance and Evaluation Office (PEO) provides.

CDC requests OMB approval for an estimated 104,949 annual burden hours. Participation of respondents is voluntary. There are no costs to respondents other than their time.

Estimated Annualized Burden Hours
Type of respondents | Form name | Number of responses | Number of responses per respondent per year | Average burden per response (in hours) | Total burden (in hours)
CDC/ATSDR Award Recipients (new GENICs) | Performance Measures Project Information Collection Tool | 1,750 | 1 | 40 | 70,000
CDC/ATSDR Award Recipients (continuation of previously approved GENICs) | Performance Measures Project Information Collection Tool | 3,223 | 1 | 10.84/60 | 34,949
Total |  | 4,973 |  |  | 104,949

Jeffrey M. Zirger,
Lead, Information Collection Review Office, Office of Public Health Ethics and Regulations, Office of Science, Centers for Disease Control and Prevention.

[FR Doc. 2026-03597 Filed 2-23-26; 8:45 am]

BILLING CODE 4163-18-P